DEPARTMENT OF TRANSPORTATION

Pipeline and Hazardous Materials Safety Administration

49 CFR Parts 107, 171, 172, 173, 174, 176, 177, 178, 179, and 180

[Docket No. PHMSA-2018-0080 (HM-265)]

RIN 2137-AF41

Hazardous Materials: Advancing Safety of Highway, Rail, and Vessel Transportation; Extension of Comment Period

AGENCY: Pipeline and Hazardous Materials Safety Administration (PHMSA), Department of Transportation (DOT).

ACTION: Notice of proposed rulemaking; extension of comment period.

SUMMARY: On October 28, 2024, PHMSA published a notice of proposed rulemaking (NPRM) titled “Hazardous Materials: Advancing Safety of Highway, Rail, and Vessel Transportation (HM-265),” proposing amendments to the Hazardous Materials Regulations (HMR) to adopt several modal-specific amendments that would enhance the safe transportation of hazardous materials in commerce by highway, rail, and vessel transportation. In response to a request for an extension of the comment period submitted by the Railway Supply Institute (RSI), PHMSA is extending the comment period for the HM-265 NPRM by an additional 90 days.

DATES: The comment period for the proposed rule published October 28, 2024, at 89 FR 85590, is extended. Comments must be received by April 28, 2025. To the extent possible, PHMSA will consider late-filed comments as a final rule is developed.

ADDRESSES: Comments should reference Docket No. PHMSA-2018-0080 (HM-265) and may be submitted in the following ways:

• Federal eRulemaking Portal: https://www.regulations.gov. Follow the instructions for submitting comments.

• Fax: 1-202-493-2251.

• Mail: Docket Management System; U.S. Department of Transportation, West Building, Ground Floor, Room W12-140, Routing Symbol M-30, 1200 New Jersey Avenue SE, Washington, DC 20590.

• Hand Delivery: To the Docket Management System: Room W12-140 on the ground floor of the West Building, 1200 New Jersey Avenue SE, Washington, DC 20590, between 9 a.m. and 5 p.m., Monday through Friday, except Federal holidays.

Instructions: All submissions must include the agency name and Docket Number for this document (PHMSA-2018-0080) or Regulation Identifier number (RIN) (2137-AF41) for this rulemaking at the beginning of the comment. To avoid duplication, please use only one of these four methods. All comments received will be posted without change to the Federal Docket Management System (FDMS) and will include any personal information you provide.

Docket: For access to the dockets to read associated documents or comments received, go to https://www.regulations.gov or DOT's Docket Operations Office (see ADDRESSES).

Privacy Act: In accordance with 5 U.S.C. 553(c), DOT solicits comments from the public to better inform its process. DOT posts these comments without change, including any personal information the commenter provides, to https://www.regulations.gov, as described in the system of records notice (DOT/ALL-14 FDMS), which can be reviewed at https://www.dot.gov/privacy.

Confidential Business Information: Confidential Business Information (CBI) is commercial or financial information that is both customarily and actually treated as private by its owner. Under the Freedom of Information Act (FOIA; 5 U.S.C. 552), CBI is exempt from public disclosure. If your comments responsive to this NPRM contain commercial or financial information that is customarily treated as private, that you treat as private, and that is relevant or responsive to this NPRM, it is important that you clearly designate the submitted comments as CBI. Please mark each page of your submission containing CBI as “PROPIN” for “proprietary information.” Submissions containing CBI should be sent to Eamonn Patrick, U.S. Department of Transportation, 1200 New Jersey Avenue SE, Washington, DC 20590-0001. Any commentary that PHMSA receives that is not specifically designated as CBI will be placed in the public docket for this rulemaking.

FOR FURTHER INFORMATION CONTACT: Eamonn Patrick, Standards and Rulemaking Division, 202-366-8553, Pipeline and Hazardous Materials Safety Administration, U.S. Department of Transportation, 1200 New Jersey Avenue SE, Washington, DC 20590-0001.

SUPPLEMENTARY INFORMATION:

I. Background

On October 28, 2024, PHMSA published the HM-265 NPRM.¹ In this NPRM, PHMSA, in consultation with the Federal Motor Carrier Safety Administration, the Federal Railroad Administration, and the United States Coast Guard, proposed amendments identified during Departmental review and from industry petitions for rulemaking, to reform modal specific requirements for the transportation of hazardous materials set out in the HMR, 49 Code of Federal Regulations (CFR) parts 107 and 171 through 180. PHMSA expects the adoption of these proposals will maintain or enhance the safe transportation of hazardous materials while increasing the clarity of the HMR, and therefore decrease compliance burdens. The proposed amendments also reflect changing conditions and trends that affect the safe transportation of hazardous materials while still maintaining or enhancing safety.

¹ 89 FR 85590.

II. Comment Period Extension

PHMSA initially provided a 90-day comment period for the HM-265 NPRM, which closes on January 27, 2025. In response to a request to extend the comment period from the RSI,² and subsequent comment ³ by the American Chemistry Council, the American Petroleum Institute, the Chlorine Institute, the Fertilizer Institute, and the Sulfur Institute, PHMSA is extending the comment period for an additional 90 days. RSI requested an extension to allow sufficient time to address the complexities of the proposed amendments for the NPRM and because the timing of the initial comment period is such that it spans the winter holiday season, which will hamper the ability of interested parties to submit timely comments. PHMSA acknowledges the impact of the winter holiday season on stakeholders' ability to comment and believes a 90-day extension has merit. The NPRM comment period will now close on April 28, 2025. This extension provides the public with an additional 90 days and should provide adequate opportunity for the public to submit comments, while balancing the public interest in timely completion of the final rule. To the extent possible, PHMSA will also continue to consider late-filed comments.

² RSI's comment may be viewed here: https://www.regulations.gov/document/PHMSA-2018-0080-0005.

³ American Chemistry Council, the American Petroleum Institute, the Chlorine Institute, the Fertilizer Institute, and the Sulfur Institute's comment may be viewed here: https://www.regulations.gov/comment/PHMSA-2018-0080-0006.

Issued in Washington, DC, on December 20, 2024, under authority delegated in 49 CFR part 1.97.
William A. Quade,
Deputy Associate Administrator of Hazardous Materials Safety, Pipeline and Hazardous Materials Safety Administration.

[FR Doc. 2024-31077 Filed 1-7-25; 8:45 am]

BILLING CODE 4910-60-P